DEPARTMENT OF COMMERCE

International Trade Administration

[A-588-815]

Gray Portland Cement and Clinker From Japan: Continuation of Antidumping Duty Order

AGENCY: Import Administration, International Trade Administration, Department of Commerce.

SUMMARY: On May 2, 2011, the Department of Commerce (the Department) initiated the third sunset review of the antidumping duty order on gray portland cement and clinker from Japan, pursuant to section 751(c) of the Tariff Act of 1930, as amended (the Act). See Initiation of Five-Year (“Sunset”) Review, 76 FR 24459 (May 2, 2011) (Notice of Initiation). As a result of the determination by the Department and the International Trade Commission (ITC) that revocation of the antidumping duty order on gray portland cement and clinker from Japan would likely lead to continuation or recurrence of dumping and material injury to an industry in the United States, the Department is publishing a notice of continuation of this antidumping duty order.

DATES: Effective Date: December 16, 2011.

FOR FURTHER INFORMATION CONTACT: Catherine Cartsos or Minoo Hatten, AD/CVD Operations, Office 1, Import Administration, International Trade Administration, U.S. Department of Commerce, 14th Street and Constitution Avenue NW., Washington, DC 20230; telephone: (202) 482-1757 or (202) 482-1690, respectively.

SUPPLEMENTARY INFORMATION:

Background

On May 2, 2011, the Department published the notice of initiation of the third sunset review of the antidumping duty order on gray portland cement and clinker from Japan ¹ pursuant to section 751(c) of the Tariff Act of 1930, as amended (the Act). See Notice of Initiation.

¹ See Antidumping Duty Order and Amendment to Final Determination of Sales at Less Than Fair Value: Gray Portland Cement and Clinker From Japan, 56 FR 21658 (May 10, 1991), and Amended Final Determination of Sales at Less Than Fair Value and Antidumping Order: Gray Portland Cement and Clinker From Japan, 60 FR 39150 (August 1, 1995).

As a result of this sunset review, the Department determined that revocation of the antidumping duty order on gray portland cement and clinker from Japan would likely lead to continuation or recurrence of dumping and notified the ITC of the magnitude of the margins likely to prevail should the order be revoked. See Gray Portland Cement and Clinker From Japan: Final Results of the Expedited Third Sunset Review of the Antidumping Duty Order, 76 FR 54206 (August 31, 2011).

On December 8, 2011, the ITC published its determination in the Federal Register, pursuant to section 751(c) of the Act, that revocation of the antidumping duty order on gray portland cement and clinker from Japan would likely lead to continuation or recurrence of material injury to an industry in the United States within a reasonably foreseeable time. See Gray Portland Cement and Clinker From Japan, 76 FR 76760 (December 8, 2011), and USITC Publication 4281 (December 2011) entitled Gray Portland Cement and Cement Clinker From Japan (Inv. Nos. 731-TA-461 (Third Review)).

Scope of the Order

The products covered by the order are cement and cement clinker from Japan. Cement is a hydraulic cement and the primary component of concrete. Cement clinker, an intermediate material produced when manufacturing cement, has no use other than grinding into finished cement. Microfine cement was specifically excluded from the antidumping duty order. Cement is currently classifiable under the Harmonized Tariff Schedule (HTS) item number 2523.29 and cement clinker is currently classifiable under HTS item number 2523.10. Cement has also been entered under HTS item number 2523.90 as “other hydraulic cements.” The HTS item numbers are provided for convenience and customs purposes. The written product description remains dispositive as to the scope of the product covered by the order.²

² The Department has made two scope rulings regarding subject merchandise. See Scope Rulings, 57 FR 19602 (May 7, 1992) (classes G and H of oil well cement are within the scope of the order), and Scope Rulings, 58 FR 27542 (May 10, 1993) (“Nittetsu Super Fine” cement is not within the scope of the order).

Continuation of Order

As a result of the determination by the Department and the ITC that revocation of the antidumping duty order would likely lead to continuation or recurrence of dumping and material injury to an industry in the United States, pursuant to section 751(d)(2) of the Act, the Department hereby orders the continuation of the antidumping duty order on gray portland cement and clinker from Japan.

U.S. Customs and Border Protection will continue to collect antidumping cash deposits at the rates in effect at the time of entry for all imports of subject merchandise. The effective date of the continuation of the order will be the date of publication of this notice of continuation in the Federal Register. Pursuant to sections 751(c)(2) and 751(c)(6)(A) of the Act, the Department intends to initiate the next five-year review of this order not later than 30 days prior to the fifth anniversary of the effective date of continuation.

This five-year sunset review and this notice is in accordance with section 751(c) of the Act and is published pursuant to section 777(i) of the Act and 19 CFR 351.218(f)(4).

Dated: December 8, 2011.
Ronald K. Lorentzen,
Acting Assistant Secretary for Import Administration.

[FR Doc. 2011-32270 Filed 12-15-11; 8:45 am]

BILLING CODE 3510-DS-P